DEPARTMENT OF TRANSPORTATION

Federal Transit Administration

Notice To Rescind Notice of Intent To Prepare a Supplemental Draft Environmental Impact Statement for the Proposed Transit Improvements in the Eastside Transit Corridor Phase 2, Eastern Portion of Los Angeles County, California

AGENCY: Federal Transit Administration (FTA), Department of Transportation (DOT).

ACTION: Rescind Notice of Intent to prepare a Supplemental Draft Environmental Impact Statement.

SUMMARY: The FTA in cooperation with the Los Angeles County Metropolitan Transportation Authority (LACMTA) is issuing this notice to advise the public that the Notice of Intent (NOI) to prepare a Supplemental Draft Environmental Impact Statement (EIS) for the proposed Eastside Transit Corridor Phase 2 Project in eastern Los Angeles County, California is being rescinded.

FOR FURTHER INFORMATION CONTACT: Ms. Mary Nguyen, Environmental Protection Specialist, Federal Transit, Administration Region 9, Los Angeles Office, 888 South Figueroa Street, Suite 440, Los Angeles, CA 90017-5467, Phone (213) 202-3960, email mary.nguyen@dot.gov.

SUPPLEMENTARY INFORMATION: The FTA, as lead federal agency, and LACMTA published an NOI on May 29, 2019 (80 FR 24857) to prepare a Supplemental Draft EIS for the LACMTA Eastside Transit Corridor Phase 2 Project. The Project would extend the existing Metro (Gold) Line from its current terminus at Atlantic Station in the unincorporated area of East Los Angeles to eastern Los Angeles County to South El Monte via the State Route 60 freeway alignment, to Whittier along the Washington Boulevard alignment, or to both South El Monte and Whittier with the Combined Alternative. The Project would traverse densely populated, low-income, and heavily transit-dependent communities with major activity centers within the Gateway Cities and San Gabriel Valley subregions of Los Angeles County. Following the publication of the NOI, LACMTA reevaluated its funding sources and has identified that the Project can be funded through state and local sources. Thus, LACMTA is not seeking federal funding from FTA at this time, and FTA is rescinding the May 29, 2019 NOI. LACMTA Board of Directors took action at its February 27, 2020 Board meeting to proceed with the California Environmental Quality Act (CEQA) only for the Project's environmental study. Comments and questions concerning the proposed action should be directed to FTA at the address provided above.

Raymond Tellis,
Regional Administrator, FTA Region 9.

[FR Doc. 2020-10918 Filed 5-20-20; 8:45 am]

BILLING CODE P